DEPARTMENT OF STATE

[Public Notice: 9088]

Notice of Public Meeting of the President's Emergency Plan for AIDS Relief (PEPFAR) Scientific Advisory Board

SUMMARY: In accordance with the Federal Advisory Committee Act (FACA), the PEPFAR Scientific Advisory Board hereinafter referred to as “the Board”, will meet as indicated below.

The U.S. President's Emergency Plan for AIDS Relief (PEPFAR) Scientific Advisory Board will meet on Thursday, April 30th via teleconference. The meeting will be from 9 a.m. ET until approximately 10:30 a.m. ET and is open to the public (please see teleconference phone number below). The meeting will be hosted by the Office of the U.S. Global AIDS Coordinator, Ambassador Deborah L. Birx, who leads implementation of the President's Emergency Plan for AIDS Relief (PEPFAR). The PEPFAR Scientific Advisory Board serves the Global AIDS Coordinator in a solely advisory capacity concerning scientific, implementation, and policy issues related to the global response to HIV/AIDS. These issues will be of concern as they influence the priorities and direction of PEPFAR evaluation and research, the content of national and international strategies and implementation, and the role of PEPFAR in the international discourse regarding appropriate and resourced responses. The April 30th teleconference will act as an introduction to PEPFAR programs, the goals of the Board, and provide an overview and forum for discussion of PEPFAR 3.0, (http://www.pepfar.gov/documents/organization/234744.pdf) which sets the strategic direction of the program. The public may attend this meeting by using the conference number provided here: (United States: (800) 230-1951/International: (612) 332-0226/Confirmation Number: 357464).

To RSVP, please contact the Office of the U.S. Global AIDS Coordinator: email (PEPFAR_SAB@state.gov), by April 22nd, 2015. While the meeting is open to public attendance, the Board will determine procedures for public participation and will announce those procedures at the meeting.

For further information about the meeting, please contact Dr. Julia MacKenzie, Senior Technical Advisor and Designated Federal Officer, Office of the U.S. Global AIDS Coordinator at (202) 663-1079 or MacKenzieJJ@state.gov.

Dated: April 2, 2015.
Julia MacKenzie,
Senior Technical Advisor, Office of the U.S. Global AIDS Coordinator, U.S. Department of State.

[FR Doc. 2015-08157 Filed 4-8-15; 8:45 am]

BILLING CODE 4710-10-P